DEPARTMENT OF STATE

22 CFR Part 121

[Public Notice 3997]

Amendments to the United States Munitions List

AGENCY: Bureau of Political-Military Affairs, Department of State.

ACTION: Final rule.

SUMMARY: The Department of State is revising Category I—Firearms—of the U.S. Munitions List (USML). The title of the revised category is being changed to include close assault weapons and combat shotguns. Certain interpretations (e.g., definitions) of firearms and their components and parts previously found elsewhere in the International Traffic in Arms Regulations (ITAR) are being consolidated in the revised text for Category I. Reference to related exemptions from export licensing requirements of the ITAR are also being added. Further, certain accessories, such as silencers, sound suppressors and flash suppressors are, henceforth, designated significant military equipment (“SME”).

EFFECTIVE DATE: April 29, 2002.

FOR FURTHER INFORMATION CONTACT: Mr. Peter Berry, Chief, Arms Licensing Division, Office of Defense Trade Controls, Department of State, Telephone (202) 663-2806 or FAX (202) 261-8199. ATTN: Regulatory Change, USML Part 121, Category I.

SUPPLEMENTARY INFORMATION: The Departments of State and Defense, in consultation with the Department of Commerce and other U.S. Government agencies, are reviewing items controlled on the U.S. Munitions List (USML) in order to ensure that the list of defense articles and defense services controlled pursuant to the International Traffic in Arms Regulations is up-to-date and appropriately reflects current U.S. security and foreign policy interests. Consistent with the policy announced by the United States at the May 2000 NATO Ministerial meeting, the Executive Branch initiated a procedure that involves a four-year review cycle, whereby one-quarter of the USML is reviewed each year. This policy and procedure is consistent with Section 38(f) of the Arms Export Control Act (AECA), which states that the President shall periodically review the items on the USML to determine what items, if any, no longer warrant export controls under Section 38. Five categories are currently under review: Categories I, V, VIII, XIV and XVI. This rulemaking concerns the results of the Category I review. The results pertaining to the remaining four categories will be published upon completion of inter-agency review. With regard to Category I, no substantive additions or deletions of the articles and services controlled under this heading by Category I are being made. But, there are substantial changes in the title and in the text that are designed to provide greater clarity and precision for defense industry exporters and closer scrutiny and reporting of certain items (e.g., automatic weapons and accessories, such as silencers), and to consolidate various other provisions of the ITAR relating to firearms. Specifically, the new title of this category is “Firearms, Close Assault Weapons and Combat Shotguns.” Category I is being amended to move fully automatic firearms from paragraph (a) to paragraph (b) and combat shotguns from paragraph (a) to (d). The components, parts, accessories and attachments currently in paragraph (d) are moved to a new paragraph (h). The silencers and suppressors in paragraph (b) are re-designated as Significant Military Equipment (SME) and moved to paragraph (e), with the remainder of the items currently in paragraph (b) moving to a new paragraph (f). The barrels, cylinders, receivers (frames) and breech mechanisms in paragraph (d) are moved to a new paragraph (g). The technical data and defense services currently in (e) are moved to a new paragraph (i). The text from § 121.9 is moved to a new paragraph (j) and a Note at the end of the category. Section 121.9 is being reserved.

This amendment involves a foreign affairs function of the United States and, therefore, is not subject to the procedures required by 5 U.S.C. 533 and 554. It is exempt from review under Executive Order 12866 but has been reviewed internally by the Department to ensure consistency with the purposes thereof. This rule does not require analysis under the Regulatory Flexibility Act or the Unfunded Mandates Reform Act. It has been found not to be a major rule within the meaning of the Small Business Regulatory Enforcement Act of 1966. It will not have substantial direct effects on the States, the relationship between the National Government and the States, or on the distribution of power and responsibilities among the various levels of government. Therefore, in accordance with section 6 of Executive Order 13132, it is determined that this rule does not have sufficient federalism implications to warrant application to Executive Orders 12372 and 13123. However, interested persons are invited to submit written comments to the Department of State, Office of Defense Trade Controls, ATTN: Regulatory Change, USML Part 121, 12th Floor, SA-1, Washington, D.C. 20522-0112. Such persons must be registered with the Department's Office of Defense Trade Controls (DTC) pursuant to the registration requirements of section 38 of the Arms Export Control Act.

List of Subjects in 22 CFR Part 121

Arms and munitions, Exports.

Accordingly, for the reasons set forth above, Title 22, Chapter I, Subchapter M, Part 121, is amended as follows:

PART 121—THE UNITED STATES MUNITIONS LIST

1. The authority citation for part 121 is revised to read as follows:

Authority: Sec. 2, 38, and 71, Pub. L. 90-629, 90 Stat. 744 (22 U.S.C. 2752, 2278, 2797); E.O. 11958, 42 FR 4311; 3 CFR, 1977 Comp. p. 79; 22 U.S.C. 2658; Pub. L. 105-261, 112 Stat. 1920.

2. In § 121.1, Category I—Firearms is revised to read as follows:

§ 121.1 General. The United States Munitions List.

* * * * *

Category I—Firearms, Close Assault Weapons and Combat Shotguns

* (a) Nonautomatic and semi-automatic firearms to caliber .50 inclusive (12.7 mm).

* (b) Fully automatic firearms to .50 caliber inclusive (12.7 mm).

* (c) Firearms or other weapons (e.g. insurgency-counterinsurgency, close assault weapons systems) having a special military application regardless of caliber.

* (d) Combat shotguns. This includes any shotgun with a barrel length less than 18 inches.

* (e) Silencers, mufflers, sound and flash suppressors for the articles in (a) through (d) of this category and their specifically designed, modified or adapted components and parts.

(f) Riflescopes manufactured to military specifications (See category XII(c) for controls on night sighting devices.)

* (g) Barrels, cylinders, receivers (frames) or complete breech mechanisms for the articles in paragraphs (a) through (d) of this category.

(h) Components, parts, accessories and attachments for the articles in paragraphs (a) through (g) of this category.

(i) Technical data (as defined in § 120.10 of this subchapter) and defense services (as defined in § 120.9 of this subchapter) directly related to the defense articles enumerated in paragraphs (a) through (h) of this category. Technical data directly related to the manufacture or production of any defense articles enumerated elsewhere in this category that are designated as Significant Military Equipment (SME) shall itself be designated SME.

(j) The following interpretations explain and amplify the terms used in this category and throughout this subchapter:

(1) A firearm is a weapon not over .50 caliber (12.7 mm) which is designed to expel a projectile by the action of an explosive or which may be readily converted to do so.

(2) A rifle is a shoulder firearm which can discharge a bullet through a rifled barrel 16 inches or longer.

(3) A carbine is a lightweight shoulder firearm with a barrel under 16 inches in length.

(4) A pistol is a hand-operated firearm having a chamber integral with or permanently aligned with the bore.

(5) A revolver is a hand-operated firearm with a revolving cylinder containing chambers for individual cartridges.

(6) A submachine gun, “machine pistol” or “machine gun” is a firearm originally designed to fire, or capable of being fired, fully automatically by a single pull of the trigger.

Note: This coverage by the U.S. Munitions List in paragraphs (a) through (i) of this category excludes any non-combat shotgun with a barrel length of 18 inches or longer, BB, pellet, and muzzle loading (black powder) firearms. This category does not cover riflescopes and sighting devices that are not manufactured to military specifications. It also excludes accessories and attachments (e.g., belts, slings, after market rubber grips, cleaning kits) for firearms that do not enhance the usefulness, effectiveness, or capabilities of the firearm, components and parts. The Department of Commerce regulates the export of such items. See the Export Administration Regulations (15 CFR parts 730-799). In addition, license exemptions for the items in this category are available in various parts of this subchapter (e.g. §§ 123.17, 123.18 and 125.4).

* * * * *

§ 121.9 [Removed and Reserved]

3. Section 121.9 is removed and reserved.

Dated: April 5, 2002.
John R. Bolton,
Under Secretary for Arms Control and International Security, Department of State.

[FR Doc. 02-10474 Filed 4-26-02; 8:45 am]

BILLING CODE 4710-25-P